DEPARTMENT OF LABOR

Employment and Training Administration

[TA-W-37,435 and NAFTA-3754]

Oshkosh B'Gosh, Inc., Distribution Center, Oshkosh, Wisconsin; Dismissal of Application for Reconsideration

Pursuant to 29 CFR 90.18(C) an application for administrative reconsideration was filed with the Director of the Division of Trade Adjustment Assistance for workers at Oshkosh B'Gosh, Inc., Distribution Center, Oshkosh, Wisconsin. The application contained no new substantial information which would bear importantly on the Department's determination. Therefore, dismissal of the application was issued.

TA-W-37, 435 and NAFTA-3754; Oshkosh B'Gosh, Inc., Distribution Center, Oshkosh, Wisconsin (July 10, 2000)

Signed at Washington, D.C. this 12th day of July, 2000.
Grant D. Beale,
Program Manager, Division of Trade Adjustment Assistance.

[FR Doc. 00-18357 Filed 7-19-00; 8:45 am]

BILLING CODE 4510-30-M